DEPARTMENT OF AGRICULTURE

Cooperative State Research, Education, and Extension Service

Decision Support, Education, and Workforce Development Through Geospatial Extension Specialists Program: Amendment to the Fiscal Year 2004 Request for Applications and Request for Input

AGENCY: Cooperative State Research, Education, and Extension Service, USDA.

ACTION: Notice of fiscal year 2004 request for applications; and request for input; correction and extension of deadline.

SUMMARY: This notice corrects the fiscal year (FY) 2004 Request for Applications and Request for Input for the Decision Support, Education, and Workforce Development through Geospatial Extension Specialists (GES) Program published at 68 FR 67133, December 1, 2003. This correction removes Ohio from the list of states that have already established GES Programs permitting eligible entities to receive GES Program funds to establish new GES positions in Ohio. Furthermore, this notice extends the deadline for receipt of applications to April 1, 2004.

DATES: This amendment extends the original deadline for receipt of applications as set forth previously in the RFA published on December 1, 2003 (68 FR 67133). Applications submitted in response to the FY 2004 RFA for the GES Program must be received by close of business on April 1, 2004 (5 p.m. eastern standard time). Applications received after this deadline will not be considered for funding.

FOR FURTHER INFORMATION CONTACT: Greg Crosby; National Program Leader; Cooperative State Research, Education, and Extension Service; U.S. Department of Agriculture; STOP 2210; 1400 Independence Avenue, SW.; Washington, DC 20250-2210; Telephone: (202) 401-6050; Fax: (202) 401-1706; E-mail: gcrosby@csrees.usda.gov.

Correction

1. In the Federal Register of December 1, 2003, in FR Doc. 03-29761, on page 67135, in the third column, correct the paragraph entitled “New Position” to read:

1. New Position

This is an application from a state where a new Geospatial Extension Specialist position has been created (a state other than the ten listed in the Program Description portion of this notice). New Position applications may request a maximum of $100,000 per year for up to three (3) years.

2. On page 67136, in the second column, correct the first paragraph to read:

GES programs have been established in ten states over the last three years. These programs, in Alabama, Arizona, Connecticut, Mississippi, Nebraska, New Hampshire, North Dakota, Oklahoma, Utah and Virginia, are partnerships between land-grant institutions and the NASA SGC within the states. Geospatial Extension Specialist positions are located within the regular Cooperative Extension Service (CES) structure in each participating state, and provide technical support to CES agents and clients (as do other extension specialists). They are eligible for tenure or other comparable professional appointment, and are expected to draw on existing expertise available through the land-grant system, SGC, and the network of NASA Principal Investigators.

Done at Washington, DC, this 25th day of February 2004.
Colien Hefferan,
Administrator, Cooperative State Research, Education, and Extension Service.

[FR Doc. 04-4594 Filed 2-27-04; 8:45 am]

BILLING CODE 3410-22-P